COMMISSION ON CIVIL RIGHTS

Notice of Public Meeting of the California Advisory Committee

AGENCY: U.S. Commission on Civil Rights.

ACTION: Announcement of Community Forum.

SUMMARY: Notice is hereby given, pursuant to the provisions of the rules and regulations of the U.S. Commission on Civil Rights (Commission) and the Federal Advisory Committee Act (FACA) that a Community Forum of the California Advisory Committee (Committee) to the Commission will be held from 4:00 p.m. to 7:00 p.m. (Pacific Time) Wednesday, March 4, 2020. The purpose is to hear testimony regarding immigration enforcement impacting California children in K-12 schools. The Committee will examine the impact of U.S. Immigration and Customs Enforcement (ICE) enforcement practices on access to public education for California's K-12 students; access to equal protection under the law for individuals based on their perceived national origin; and the extent to which due process is denied to students and their families. This is the second meeting dedicated to hearing testimony on this topic. The Committee welcomes members of the public to share their stories.

DATES: The Community Forum will be held on Wednesday, March 4, 2020, from 4:00 p.m. to 7:00 p.m. Pacific Time.

ADDRESSES: Southwestern Community College, 900 Otay Lakes Road, Chula Vista, CA 91910, Room 64-238 North.

Public Call Information:

Dial: 800-367-2403.

Conference ID: 1073193.

FOR FURTHER INFORMATION CONTACT: Ana Victoria Fortes at afortes@usccr.gov or (213) 894-3437.

SUPPLEMENTARY INFORMATION: This meeting is available to the public through the following toll-free call-in number: 800-367-2403 conference ID number: 1073193. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meeting at https://www.facadatabase.gov/FACA/FACAPublicViewCommitteeDetails?id=a10t0000001gzkUAAQ.

Please click on “Committee Meetings” tab. Records generated from this meeting may also be inspected and reproduced at the Regional Programs Unit, as they become available, both before and after the meeting. Persons interested in the work of this Committee are directed to the Commission's website, https://www.usccr.gov, or may contact the Regional Programs Unit at the above email or street address.

Agenda

I. Opening Remarks

II. Public Comment

III. Closing Remarks

Dated: February 19, 2020.
David Mussatt,
Supervisory Chief, Regional Programs Unit.

[FR Doc. 2020-03582 Filed 2-21-20; 8:45 am]

BILLING CODE 6335-01-P